DEPARTMENT OF LABOR

Employment and Training Administration

[TA-W-64,776]

Maitland-Smith Furniture Industries, Incorporated, a Subsidiary of HDM Furniture Industries, Incorporated, a Subsidiary of Furniture Brands International, Incorporated, High Point, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 27, 2009, applicable to workers of Maitland-Smith Furniture Industries, Incorporated, a subsidiary of HDM Furniture Industries, Incorporated, High Point, North Carolina. The notice was published in the Federal Register on February 23, 2009 (74 FR 8115).

At the request of the State agency, the Department reviewed the certification for workers of the subject firm. The workers perform warehousing, distribution and various support service functions related to the production of household furniture.

New information shows that Furniture Brands International, Incorporated is the parent firm of Maitland-Smith Furniture Industries, Incorporated, a subsidiary of HDM Furniture Industries, Incorporated. Workers' wages at the subject firm are being reported under the Unemployment Insurance (UI) tax account for Furniture Brands International, Incorporated.

Accordingly, the Department is amending this certification to properly reflect this matter.

The intent of the Department's certification is to include all workers of Maitland-Smith Furniture Industries, Incorporated, a subsidiary of HDM Furniture Industries, Incorporated, a subsidiary of Furniture Brands International, Incorporated, High Point, North Carolina, who were adversely affected by increased company imports.

The amended notice applicable to TA-W-64,776 is hereby issued as follows:

All workers of Maitland-Smith Furniture Industries, Incorporated, a subsidiary of HDM Furniture Industries, Incorporated, a subsidiary of Furniture Brands International, Incorporated, High Point, North Carolina, who became totally or partially separated from employment on or after December 23, 2007 through January 27, 2011, are eligible to apply for adjustment assistance under Section 223 of the Trade Act of 1974, and are also eligible to apply for alternative trade adjustment assistance under Section 246 of the Trade Act of 1974.

Signed at Washington, DC this 19th day of October 2009.
Elliott S. Kushner,
Certifying Officer, Division of Trade Adjustment Assistance.

[FR Doc. E9-27005 Filed 11-9-09; 8:45 am]

BILLING CODE 4510-FN-P